NUCLEAR REGULATORY COMMISSION

Advisory Committee on Nuclear Waste; Notice of Meeting

The Advisory Committee on Nuclear Waste (ACNW) will hold its 150th meeting on May 25-27, 2004, Room T-2B3, 11545 Rockville Pike, Rockville, Maryland. The schedule for this meeting is as follows:

Tuesday, May 25, 2004

1 p.m.-3:10 p.m.: Safeguards and Security Matters (Closed)—The Committee will hear presentations by and hold discussions with representatives of the Office of Nuclear Material Safety and Safeguards (NMSS) to discuss safeguards and security matters.

3:25 p.m.-3:30 p.m.: Opening Remarks by the ACNW Chairman (Open)—The ACNW Chairman will make opening remarks regarding the conduct of the meeting.

3:30 p.m.-4:30 p.m.: Louisiana Energy Services (LES) Gas Centrifuge Uranium Enrichment Project (Open)—The Committee will hear presentations by and hold discussions with representatives of the NRC staff regarding the recent application, NRC Docket No. 70-3103, by LES to construct a gas centrifuge enrichment plant in Lea County, New Mexico.

4:30 p.m.-6 p.m.: Preparation of ACNW Reports (Open)—The Committee will discuss proposed ACNW reports on matters considered during this and previous meetings regarding reports on West Valley Performance Assessment Plans, Risk-Informed Regulation for NMSS Activities, and LES Gas Centrifuge Uranium Enrichment Program (tentative).

Wednesday, May 26, 2004

8:30 a.m.-8:40 a.m.: Opening Statement (Open)—The Chairman will make opening remarks regarding the conduct of today's sessions.

8:40 a.m.-9:40 a.m.: Review of DOE Technical Basis Documents Supporting the Yucca Mountain License Application (YMLA) (Open)—The Committee will hear presentations by and hold discussions with representatives of the NRC staff on its recent evaluation of DOE Analysis Model Reports intended to support the YMLA as discussed in a staff letter to M. Chu, DOE, dated April 10, 2004.

9:40 a.m.-10:40 a.m.: Decommissioning Program Changes (Open)—The Committee will hear a briefing by and hold discussions with the NRC staff on the recent changes to the decommissioning program, as described in SECY-04-0022.

11:10 a.m.-12:30 p.m.: Preparation for Meeting with the NRC Commissioners (Open)—The Committee will discuss proposed topics for a meeting with the NRC Commissioners, which is scheduled to be held between 9:30 a.m. and 11:30 a.m. on Wednesday, July 21, 2004.

1:45 p.m.-5:30 p.m.: Preparation of ACNW Reports (Open)—The Committee will discuss proposed ACNW reports on matters considered during this and previous meetings.

Thursday, May 27, 2004

8:30 a.m.-8:35 a.m.: Opening Statement (Open)—The Chairman will make opening remarks regarding the conduct of today's sessions.

8:35 a.m.-10 a.m.: Treatment of Uncertainties in Hydrologic Models: Conceptual Model and Parameter Uncertainty (Open)—The Committee will hear presentations by and hold discussions with representatives of the NRC staff, Pacific Northwest National Laboratory and the University of Arizona regarding the proposed strategy for coupling parameter uncertainty with conceptual model uncertainty in ground water modeling.

10:15 a.m.-12:45 p.m.: Preparation of ACNW Reports. (Open)—The Committee will continue its discussion of proposed ACNW letter reports.

12:45 p.m.-1 p.m.: Miscellaneous (Open)-The Committee will discuss matters related to the conduct of Committee activities and matters and specific issues that were not completed during previous meetings, as time and availability of information permit.

Procedures for the conduct of and participation in ACNW meetings were published in the Federal Register on October 16, 2003 (68 FR 59643). In accordance with these procedures, oral or written statements may be presented by members of the public. Electronic recordings will be permitted only during those portions of the meeting that are open to the public. Persons desiring to make oral statements should notify Mr. Howard J. Larson, Special Assistant (Telephone (301) 415-6805), between 7:30 a.m. and 4 p.m. e.t., as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Mr. Howard J. Larson as to their particular needs.

In accordance with Subsection 10(d) Public Law 92-463, I have determined that it is necessary to close portions of this meeting noted above to discuss and protect national security information as well as unclassified safeguards information pursuant to 5 U.S.C. 552b(c)(1) and (3).

Further information regarding topics to be discussed, whether the meeting has been canceled or rescheduled, the Chairman's ruling on requests for the opportunity to present oral statements and the time allotted therefore can be obtained by contacting Mr. Howard J. Larson.

ACNW meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Video teleconferencing service is available for observing open sessions of ACNW meetings. Those wishing to use this service for observing ACNW meetings should contact Mr. Theron Brown, ACNW Audiovisual Technician (Telephone (301) 415-8066), between 7:30 a.m. and 3:45 p.m. e.t., at least 10 days before the meeting to ensure the availability of this service. Individuals or organizations requesting this service will be responsible for telephone line charges and for providing the equipment and facilities that they use to establish the video teleconferencing link. The availability of video teleconferencing services is not guaranteed.

Dated: May 11, 2004.
Andrew L. Bates,
Advisory Committee Management Officer.

[FR Doc. 04-11074 Filed 5-14-04; 8:45 am]

BILLING CODE 7590-01-P